DEPARTMENT OF LABOR

Employment and Training Administration

[TA-W-62,303]

Agilent Technologies, Inc., Liberty Lake, WA; Notice of Revised Determination on Reconsideration

By application dated November 29, 2007 a company official requested administrative reconsideration of the Department's negative determination regarding eligibility for workers and former workers of the subject firm to apply for Trade Adjustment Assistance (TAA) and Alternative Trade Adjustment Assistance (ATAA).

The initial investigation resulted in a negative determination signed on November 6, 2007, was based on the finding that imports of test and measurement equipment prototypes did not contribute importantly to worker separations at the subject plant. The denial notice was published in the Federal Register on November 21, 2007 (72 FR 65607).

In the request for reconsideration, a company official provided additional information regarding a shift in plant production of test and measurement equipment prototypes to a foreign country.

The Department reviewed the findings in the initial investigation and new information presented in the reconsideration. Upon further review and contact with the company official, it was revealed that the company shifted its production of test and measurement equipment prototypes to China with the intent to import test and measurement equipment prototypes back into the United States. The investigation further revealed that employment declined at the subject firm.

In accordance with Section 246 the Trade Act of 1974 (26 U.S.C. 2813), as amended, the Department of Labor herein presents the results of its investigation regarding certification of eligibility to apply for alternative trade adjustment assistance (ATAA) for older workers.

In order for the Department to issue a certification of eligibility to apply for ATAA, the group eligibility requirements of Section 246 of the Trade Act must be met. The Department has determined in this case that the requirements of Section 246 have been met.

A significant number of workers at the firm are age 50 or over and possess skills that are not easily transferable. Competitive conditions within the industry are adverse.

The workers were under an existing TAA/ATAA certification that expired on September 30, 2007.

Conclusion

After careful review of the facts obtained in the investigation, I determine that there was a shift in production from Agilent Technologies, Inc., Liberty Lake, Washington to China of articles that are like or directly competitive with those produced by the subject firm or subdivision, and there has been or is likely an increase in imports of like or directly competitive articles. In accordance with the provisions of the Act, I make the following certification:

All workers of Agilent Technologies, Inc., Liberty Lake, Washington, who became totally or partially separated from employment on or after October 1, 2007, through two years from the date of this certification, are eligible to apply for adjustment assistance under Section 223 of the Trade Act of 1974, and are eligible to apply for alternative trade adjustment assistance under Section 246 of the Trade Act of 1974.

Signed at Washington, DC, this 8th day of January, 2008.
Elliott S. Kushner,
Certifying Officer, Division of Trade Adjustment Assistance.

[FR Doc. E8-591 Filed 1-15-08; 8:45 am]

BILLING CODE 4510-FN-P